INTERNATIONAL TRADE COMMISSION

[Investigation Nos. 701-TA-447 and 731-TA-1116 (Third Review)]

Circular Welded Carbon-Quality Steel Pipe From China

Determinations

On the basis of the record ¹ developed in the subject five-year reviews, the United States International Trade Commission (“Commission”) determines, pursuant to the Tariff Act of 1930 (“the Act”), that revocation of the countervailing duty and antidumping duty orders on circular welded carbon-quality steel pipe from China would be likely to lead to continuation or recurrence of material injury to an industry in the United States within a reasonably foreseeable time.

¹ The record is defined in § 207.2(f) of the Commission's Rules of Practice and Procedure (19 CFR 207.2(f)).

Background

The Commission instituted these reviews on May 1, 2024 (89 FR 35244) and determined on August 5, 2024, that it would conduct expedited reviews (89 FR 77543, September 23, 2024).

The Commission made these determinations pursuant to section 751(c) of the Act (19 U.S.C. 1675(c)). It completed and filed its determinations in these reviews on December 12, 2024. The views of the Commission are contained in USITC Publication 5571 (December 2024), entitled Circular Welded Carbon-Quality Steel Pipe from China: Investigation Nos. 701-TA-447 and 731-TA-1116 (Third Review).

By order of the Commission.
Issued: December 12, 2024.
Lisa Barton,
Secretary to the Commission.

[FR Doc. 2024-29686 Filed 12-16-24; 8:45 am]

BILLING CODE 7020-02-P